U.S.-CHINA ECONOMIC AND SECURITY REVIEW COMMISSION

Notice of Open Public Hearing

AGENCY: U.S.-China Economic and Security Review Commission.

ACTION: Notice of open public hearing—May 20, 2010, Washington, DC.

SUMMARY: Notice is hereby given of the following hearing of the U.S.-China Economic and Security Review Commission.

Name: Daniel M. Slane, Chairman of the U.S.-China Economic and Security Review Commission.

The Commission is mandated by Congress to investigate, assess, and report to Congress annually on “the national security implications of the economic relationship between the United States and the People's Republic of China.”

Pursuant to this mandate, the Commission will hold a public hearing in Washington, DC on May 20, 2010, to address “China's Emergent Military Aerospace and Commercial Aviation Industry.”

Background

This is the fifth public hearing the Commission will hold during its 2010 report cycle to collect input from leading academic, industry, and government experts on national security implications of the U.S. bilateral trade and economic relationship with China. The May 20 hearing will examine the progress in China's attempts to field a modern air force and develop both its commercial and military aviation industrial complex. The May 20 hearing will be Co-chaired by Commissioners Daniel A. Blumenthal and Peter Videnieks.

Any interested party may file a written statement by May 20, 2010, by mailing to the contact below. On May 20, the hearing will be held in two sessions, one in the morning and one in the afternoon. A portion of each panel will include a question and answer period between the Commissioners and the witnesses.

Transcripts of past Commission public hearings may be obtained from the USCC Web site, http://www.uscc.gov.

DATE AND TIME: Thursday, May 20, 2010, 9 a.m. to 3:30 p.m. Eastern Daylight Time. A detailed agenda for the hearing will be posted to the Commission's Web Site at http://www.uscc.gov as soon as available.

ADDRESSES: The hearing will be held on Capitol Hill in Room 106 of the Dirksen Senate Office Building located at First Street and Constitution Avenue, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: April 26, 2010.
Kathleen J. Michels,
Associate Director, U.S.-China Economic and Security Review Commission.

[FR Doc. 2010-10016 Filed 4-28-10; 8:45 am]

BILLING CODE 1137-00-P